DEPARTMENT OF TRANSPORTATION

Federal Railroad Administration

Notice of Availability of a Draft Environmental Impact Statement, for the Chicago, IL to St. Louis, MO High Speed Rail Corridor Program

AGENCY: Federal Railroad Administration (FRA) United State Department of Transportation (DOT).

ACTION: Notice of availability of draft environmental impact statement.

SUMMARY: FRA is issuing this notice to advise the public that a Draft Environmental Impact Statement (Draft EIS) has been prepared for the Chicago, Illinois to St. Louis, Missouri High Speed Rail Corridor Program. The Draft EIS includes a Tier 1 corridor-level evaluation and a Tier 2 project-level evaluation for the Springfield Rail Improvements Project. FRA is the lead federal agency and the Illinois Department of Transportation (IDOT) is the lead state agency for the environmental review process.

IDOT proposes to improve high speed passenger rail service between Chicago, Illinois and St. Louis, Missouri, including the rail lines through Springfield, Illinois. The proposed including the development of double tracking along the existing Amtrak railroad corridor to improve high-speed passenger service reliability and safety, and to increase the number of trips between Chicago and St. Louis, as well as including improvements to railroad crossings, signals, and stations.

The Draft EIS presents the Program's purpose and need, identifies all reasonable alternatives, describes the affected environment, analyzes the potential environmental impacts of all the reasonable alternatives and the no action alternative, and identifies appropriate mitigation measures to minimize the potential environmental impacts.

DATES: Written comments on the 45-day Draft EIS should be provided to IDOT on or before Monday, August 20th, 2012. Public hearings are scheduled to occur in August, 2012 in Chicago, IL, Springfield, IL, Alton, IL, Joliet, IL, and Bloomington, IL at times and dates to be announced on the High Speed Rail Program's Web site at http://www.idothsr.org/.

ADDRESSES: Written comments on the Draft EIS should be sent directly to Joseph Shacter, Illinois Department of Transportation, 100 West Randolph Street, Suite 6-600, Chicago, Illinois 60601, or submitted through the High Speed Rail Program's Web site at http://www.idothsr.org/, or via email with the subject line “Draft EIS” to Joseph.Shacter@Illinois.gov. Comments may also be provided orally or in writing at the public hearings.

FOR FURTHER INFORMATION CONTACT: Andrea E. Martin, Environmental Protection Specialist, Office of Railroad Policy and Development, Federal Railroad Administration, U.S. Department of Transportation, 1200 New Jersey Avenue SE., MS-20, Washington, DC 20590; email: andrea.martin@dot.gov; telephone: 202-493-6201 or Joseph Shacter, Illinois Department of Transportation, 100 West Randolph Street, Suite 6-600, Chicago, Illinois 60601; email: Joseph.Shacter@Illinois.gov; telephone: 312-793-2116.

SUPPLEMENTARY INFORMATION: The proposed High Speed Rail Program would include the development of double track along the existing Amtrak railroad corridor between Chicago, Illinois and St. Louis, Missouri to improve high-speed passenger service reliability and safety, and to increase the number of trips, as well as include improvements to railroad crossings, signals, and stations. These proposed improvements are in addition to those improvements associated with the January 8, 2004 Record of Decision (ROD) for the Chicago-St. Louis High-Speed Rail Program and the 2011 Environmental Assessment (EA)/Finding of No Significant Impacts (FONSI) concerning improvements to the existing track and the construction of additional side tracks. Implementation of those improvements is currently underway.

The current Chicago to St. Louis Corridor operates on a single track that is shared by both traditional freight and Amtrak passenger rail service. The EIS identifies and evaluates the environmental and transportation impacts associated with route alternatives and corridor-wide capacity enhancements, including double-track.

IDOT and FRA are using a tiered environmental process to evaluate the proposed Program. A tiered environmental process is a phased environmental review used in the development of complex projects. Under this process, the Draft EIS addresses broad, corridor-level issues and alternatives. Tier 2 environmental documents address individual component projects of the Selected Alternative carried forward from the Tier 1 environmental process. Concurrently with this Tier 1 study of the full Chicago to St. Louis Corridor, IDOT and FRA are conducting a Tier 2 analysis for the portion of the High Speed Rail corridor in Springfield, IL.

The corridor alternatives retained in the Draft EIS are the result of a screening process that used several evaluation criteria developed specifically for the Program. The screening criteria determined the route options that should be eliminated from further consideration. The four alternatives and no-build retained utilize combinations of the existing Amtrak passenger rail routes between Chicago and Joliet, Illinois, the City of Springfield, Illinois, and approaching St. Louis, Missouri and allow for eight daily round trips at 110 miles per hour (mph) on two tracks.

Other improvements identified in the Draft EIS include sidings, pedestrian grade separations at the stations, and grade separations along major roadways. After the public comment period for the Draft EIS and following completion of the Final EIS, individual component projects along the corridor would be advanced and studied in greater detail as Tier 2 project-level evaluations in the tiered environmental review process.

A Tier 2 project-level evaluation for improvements in Springfield is also included within the Draft EIS. The Springfield Rail Improvements Project has been advanced concurrently as a component of the overall corridor program. The Tier 2 evaluation considers the environmental and transportation impacts of rail routes through the City of Springfield, Illinois; addressing safety, noise, and traffic delays that would result from increased volumes of both passenger and freight rail traffic on the three north-south rail corridors that pass through the City of Springfield.

This Draft EIS has been prepared by FRA and IDOT consistent with the provisions of Section 102(2)(c) of the National Environmental Policy Act of 1969 (NEPA) (42 U.S.C. 4321 et seq.), the Council on Environmental Quality (CEQ) regulations implementing NEPA (40 CFR part 1500 et seq.), and FRA's Procedures for Considering Environmental Impacts (64 FR 28545; May 26, 1999).

Copies of the Draft EIS are available online at FRA's Web site: http://www.fra.dot.gov and IDOT's Web site: http://www.idothsr.org/; the document is also available for viewing at the following locations along the Corridor:

• Hayner Library, 326 Belle Street, Alton, IL 62002

• Atlanta Public Library District, 100 Race Street, Atlanta, IL 61723

• Auburn Public Library, 338 West Jefferson Street, Auburn, IL 62615

• Bloomington Public Library, 205 East Olive Street, Bloomington, IL 61701

• Blue Island Library, 2433 York Street, Blue Island, IL 60406

• Fossil Ridge Public Library, 386 West Kennedy Road, Braidwood, IL 60408

• Brighton Memorial Public Library, 110 North Main Street, Brighton, IL 62012

• Carlinville Public Library, 510 North Broad Street, Carlinville, IL 62626

• Chatham Area Public Library, 600 East Spruce Street, Chatham, IL 62629

• Chenoa Public Library District, 211 South Division Street, Chenoa, IL 61726

• Chicago Public Library-Harold Washington, 400 South State Street, Chicago, IL 60605

• Prairie Creek Public Library, 501 Carriage House Lane, Dwight, IL 60420

• East Alton Public Library, 250 Washington Avenue, East Alton, IL 62024

• East St. Louis Public Library, 5300 State Street, East St. Louis, IL 62203

• Elkhart Public Library District, 121 East Bohan Street, Elkhart, IL 62634

• Manhattan-Elwood Public Library District, 240 Whitson Street, Manhattan, IL 60442

• Frankfort Public Library District, 21119 South Pfeiffer Road, Frankfort, IL 60423

• Girard Township Library, 201 West Madison Street, Girard, IL 62640

• Six Mile Regional Library District, 2001 Delmar Avenue, Granite City, IL 62040

• Hartford Public Library District, 143 West Hawthorne Street, Hartford, IL 62048

• Joliet Public Library, 150 North Ottawa Street, Joliet, IL 60432

• Lemont Public Library, 50 East Wend Street, Lemont, IL 60439

• Lexington Public Library District, 207 South Cedar Street, Lexington, IL 61753

• Lincoln Public Library, 725 Peking Street, Lincoln, IL 62656

• Lockport Public Library, 121 East 8th Street, Lockport, IL 60441

• Madison Public Library, 1700 Fifth Street, Madison, IL 62060

• Mount Hope-Funks Grove Public Library, 111 South Hamilton Street, McLean, IL 61754

• Midlothian Public Library, 14701 South Kenton Avenue, Midlothian, IL 60445

• Mokena Community Public Library, 11327 West 195th Street, Mokena, IL 60448

• New Lenox Public Library, 120 Veterans Parkway, New Lenox, IL 60451

• Normal Public Library, 206 West College Avenue, Normal, IL 61761

• Acorn Public Library District, 15624 South Central Avenue, Oak Forest, IL 60452

• Odell Public Library District, 301 East Richard Street, Odell, IL 60460

• Orland Park Public Library, 14921 South Ravinia Avenue, Orland Park, IL 60462

• Pontiac Public Library, 211 East Madison Street, Pontiac, IL 61764

• William Leonard Public Library District, 13820 Central Park Avenue, Robbins, IL 60472

• Sherman Public Library District, 2100 East Andrew Road, Sherman, IL 62684

• Springfield Lincoln Library, 326 South Seventh Street, Springfield, IL 62701

• St. Louis Central Library, 1310 Olive Street, St. Louis, MO 63103

• Summit Public Library District, 6233 South Archer Road, Summit, IL 60501

• Tinley Park Public Library, 7851 Timber Drive, Tinley Park, IL 60477

• Towanda District Library, 301 South Taylor Street, Towanda, IL 61776

• Venice Public Library, 325 Broadway Avenue, Venice, IL 62090

• Grand Prairie of the West Public Library District, 142 West Jackson Street, Virden, IL 62690

• Williamsville Public Library, 141 West Main Street, Williamsville, IL 62693

• Wilmington Public Library District, 201 South Kankakee Street, Wilmington, IL 60481

• Wood River Public Library, 326 East Ferguson Avenue, Wood River, IL 62095

Issued in Washington, DC on June 25, 2012.
Corey W. Hill,
Director, Rail Project Development and Delivery.

[FR Doc. 2012-15993 Filed 6-28-12; 8:45 am]

BILLING CODE 4910-06-P